DEPARTMENT OF AGRICULTURE

Submission for OMB Review; Comment Request

May 4, 2011.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: National Animal Health Monitoring System; Feedlot 2011 Study.

OMB Control Number: 0579-0079.

Summary of Collection: Collection and dissemination of animal health and information is mandated by 7 U.S.C. 391, the Animal Industry Act of 1884, which established the precursor of the Animal and Plant Health Inspection Service (APHIS), Veterinary Services, the Bureau of Animal Industry. Collection, analysis, and dissemination of livestock and poultry health information on a national basis are consistent with the APHIS mission of protecting and improving American agriculture's productivity and competitiveness. The National Animal Health Monitoring System (NAHMS) will initiate the third national data collection for beef feedlot operations through the Feedlot 2011 study.

Need and Use of the Information: APHIS plans to conduct the feedlot study as part of an ongoing series of NAHMS studies on the U.S. beef feedlot population. APHIS will use the data collected to: (1) Establish national and regional production measures for producer, veterinary, and industry references, (2) Predict or detect nations and regional trends in diseases emergence and movement, (3) Address emerging issues, (4) Examine the economic impact of health management practices, (5) Provide estimates of both outcome (disease or other parameters) and exposure variables (risks) that can be used in analytic studies in the future by APHIS, and (6) Provide input into the design of a surveillance system for specific diseases.

Without this type of national data, the U.S.' ability to detect trends in management, production, and health status, either directly or indirectly, would be reduced or nonexistent.

Description of Respondents: Business or other for-profit.

Number of Respondents: 4,900.

Frequency of Responses: Reporting: On occasion.

Total Burden Hours: 2,908.

Animal Plant and Health Inspection Service

Title: Update of the Nursery Stock Regulation.

OMB Control Number: 0579-0190.

Summary of Collection: Under the Plant Protection Act (PPA) (7 U.S.C. 7701 et seq), the Secretary of Agriculture is authorized to prohibit or restrict the importation, entry, exportation, or movement in interstate commerce of plant pests and other articles, to prevent the introduction of plant pests into the United States. Regulations authorized by the PPA concerning the importation of nursery stock, plants, roots, bulbs, seeds, and other plant products are contained in Title 7 of the Code of Federal Regulations, “Nursery Stock,” 319.37 through 319.34-14. The nursery stock regulations require the Animal and Plant Health Inspection Service (APHIS) to collect information from a variety of individuals who are involved in growing, exporting, and importing nursery stock.

Need and Use of the Information: APHIS will collect information to ensure that plant pests are not introduced into the United States. The information APHIS collects serves as the supporting documentation needed to issue required PPQ forms and documents that allow importation of nursery stock.

APHIS requires a permit for the restricted articles to ensure that plant pest and plant diseases are not introduced into the United States. APHIS uses this information to implement and invoke the requirements of the Plant Protection Act.

Description of Respondents: Business or other for-profit.

Number of Respondents: 30.

Frequency of Responses: Reporting: On occasion.

Total Burden Hours: 87.

Ruth Brown,
Departmental Information Collection Clearance Officer.

[FR Doc. 2011-11297 Filed 5-9-11; 8:45 am]

BILLING CODE 3410-34-P